SOCIAL SECURITY ADMINISTRATION

[Docket No. SSA-2019-0028]

Privacy Act of 1974; System of Records

AGENCY: Office of Privacy and Disclosure, Office of the General Counsel, and Office of Retirement and Disability Policy, Social Security Administration (SSA).

ACTION: Notice of a modified system of records.

SUMMARY: In accordance with the Privacy Act, we are issuing public notice of our intent to modify an existing system of records entitled, Claims Folders System (60-0089), last published on April 1, 2003. This notice publishes details of the modified system as set forth under the caption, SUPPLEMENTARY INFORMATION.

DATES: The system of records notice (SORN) is applicable upon its publication in today's Federal Register, with the exception of the new routine uses, which are effective December 2, 2019. We invite public comment on the routine uses or other aspects of this SORN. In accordance with 5 U.S.C. 552a(e)(4) and (e)(11), the public is given a 30-day period in which to submit comments. Therefore, please submit any comments by December 2, 2019.

ADDRESSES: The public, Office of Management and Budget (OMB), and Congress may comment on this publication by writing to the Executive Director, Office of Privacy and Disclosure, Office of the General Counsel, SSA, Room G-401 West High Rise, 6401 Security Boulevard, Baltimore, Maryland 21235-6401, or through the Federal e-Rulemaking Portal at http://www.regulations.gov, please reference docket number SSA-2019-0028. All comments we receive will be available for public inspection at the above address and we will post them to http://www.regulations.gov.

FOR FURTHER INFORMATION CONTACT: Tristin Dorsey, Government Information Specialist, Privacy Implementation Division, Office of Privacy and Disclosure, Office of the General Counsel, SSA, Room G-401 West High Rise, 6401 Security Boulevard, Baltimore, Maryland 21235-6401, telephone: (410) 965-2950, email: tristin.dorsey@ssa.gov and Andrea Huseth, Government Information Specialist, Disclosure and Data Support Division, Office of Privacy and Disclosure, Office of the General Counsel, SSA, Room G-401 West High Rise, 6401 Security Boulevard, Baltimore, Maryland 21235-6401, telephone: (410) 965-6868, email: andrea.huseth@ssa.gov.

SUPPLEMENTARY INFORMATION: We are modifying the system of records name from “Claims Folders System, SSA, Office of the General Counsel, Office of Public Disclosure” to “Claims Folders System” to accurately reflect the system. We are modifying the authority for maintenance of the system to include Section 216 of the Social Security Act and Public Law 115-165. We are expanding system managers to include the Office of Retirement and Disability Policy.

We are modifying the categories of records to include that we will now collect advance designation information, per Section 201 of the Strengthening Protections for Social Security Beneficiaries Act of 2018 (H.R. 4547, Pub. L. 115-165, hereafter referred to as Pub. L. 115-165). Our representative payee program provides financial management for Social Security beneficiaries, Supplemental Security Income (SSI) recipients, and Special Veterans Benefits recipients (all referred to hereafter as beneficiaries) who are incapable of managing or directing the management of their benefits or payments. The representative payee's primary responsibility is to use the beneficiary's benefits or payments for the beneficiary's current and foreseeable needs. Public Law 115-165 allows claimants and beneficiaries to advance designate one or more individuals who could be their representative payee, if the time comes that they need one.

In addition, we are modifying the categories of records to remove references to the Claimant Identification Pilot Project, as we no longer collect photographic identification during our claims process. We are also adding the beneficiary notice control (BNC). Section 2 of the Social Security Number Fraud Prevention Act of 2017 (H.R. 624, Pub. L. 115-59, hereafter referred to as Pub. L. 115-59), restricts the inclusion of Social Security numbers (SSN) on documents the Federal government sends by mail. Some of our mailed documents include a placeholder for the responder to include the full SSN. Pursuant to Public Law 115-59, we will retain the SSN for mailed documents that we determined are “mission critical” and require an SSN to facilitate our business processes. The remaining mailed documents that are not mission critical will have the SSN removed and replaced with a BNC.

We are deleting routine use No. 17, as it is no longer applicable and no longer a condition of the individual's eligibility for payment under section 1611(e)(3) of the Social Security Act. This routine use permitted disclosures to institutions or facilities approved for the treatment of drug addicts or alcoholics. We are also adding a new routine use No. 38 to permit disclosures to contractors, cooperative agreement awardees, Federal and State agencies, and Federal congressional support agencies for research and statistical activities. In the past, we disclosed information from this system of records to the entities listed above under our efficient administration routine use. We are establishing this new routine use to distinguish disclosures that we make specifically for research purposes. We are also modifying the policies and practices for the retrieval of records to clarify that we will also retrieve records by BNC. Lastly, we are modifying the notice throughout to correct miscellaneous stylistic formatting and typographical errors of the previously published notice, and to ensure the language reads consistently across multiple systems. We are republishing the entire notice for ease of reference.

In accordance with 5 U.S.C. 552a(r), we provided a report to OMB and Congress on this modified system of records.

Dated: October 23, 2019.
Matthew Ramsey,
Executive Director, Office of Privacy and Disclosure, Office of the General Counsel.

SYSTEM NAME AND NUMBER

Claims Folders System, 60-0089

SECURITY CLASSIFICATION:

Unclassified.

SYSTEM LOCATION:

Social Security Administration, Office of Systems, Office of Systems Operations and Hardware Engineering, Robert M. Ball Building, 6401 Security Boulevard, Baltimore, Maryland 21235.

SYSTEM MANAGER(S):

Social Security Administration, Executive Director, Office of Privacy and Disclosure, Office of the General Counsel, G-401 West High Rise, 6401 Security Boulevard, Baltimore, Maryland 21235, OGC.OPD.Controls@ssa.gov.

Social Security Administration, Deputy Commissioner of Retirement and Disability Policy, Office of Retirement and Disability Policy, Robert M. Ball Building, 6401 Security Boulevard, Baltimore, MD 21235, DCDRP.Controls@ssa.gov.

AUTHORITY FOR MAINTENANCE OF THE SYSTEM:

Sections 202-205, 216, 223, 226, 228, 1611, 1631, 1818, 1836, 1840 and Title VIII of the Social Security Act, as amended, and the Strengthening Protections for Social Security Beneficiaries Act of 2018 (Pub. L. 115-165).

PURPOSE(S) OF THE SYSTEM:

We will use the information in this system to determine entitlement to or eligibility for Title II (Retirement, Survivor's and Disability Insurance) benefits, Title VIII (Special Veterans Benefits—SVB), and XVI (Supplemental Security Income—SSI) payments; reconcile problem cases; and produce and maintain the following existing systems of records: Black Lung Payment System (60-0045), Master Beneficiary Record (60-0090), SSI Record and SVB (60-0103), Master Representative Payee File (60-0222), and the Medicare Database File (60-0321).

CATEGORIES OF INDIVIDUALS COVERED BY THE SYSTEM:

This system maintains information about all claimants, beneficiaries, and potential claimants for benefits and payments administered by SSA.

CATEGORIES OF RECORDS IN THE SYSTEM:

This system maintains records that include, but are not limited to, the name and SSN of the claimant or potential claimant; application for benefits or payments; earnings record information that we establish and maintain; documents that support findings of fact regarding entitlement or eligibility and continuing entitlement or eligibility; payment documentation; correspondence to and from claimants or representatives; information about representative payees; information about individuals whom a claimant or beneficiary has designated in advance as a representative payee; information received from third parties regarding claimants' potential entitlement; BNC; data collected as a result of inquiries and complaints or evaluation and measurement studies, which assess the effectiveness of claims policies; records of certain actions entered directly into the computer processes, which include reports of changes of address, work status and other post-adjudicative actions; abstracts used for statistical purposes (i.e., disallowances, technical denials, and demographic and statistical information relating to disability decisions); and denied claims.

RECORD SOURCE CATEGORIES:

We obtain information in this system from claimants, potential claimants, and beneficiaries; accumulated reports of employers or self-employed individuals; various local, State, and Federal agencies; claimant representatives; and other sources that support findings of fact regarding entitlement or eligibility and continuing entitlement or eligibility, i.e., information received from third parties regarding claimants' potential entitlement or eligibility.

ROUTINE USES OF RECORDS MAINTAINED IN THE SYSTEM, INCLUDING CATEGORIES OF USERS AND THE PURPOSES OF SUCH USES:

We will disclose records pursuant to the following routine uses; however, we will not disclose any information defined as “return or return information” under 26 U.S.C. 6103 of the Internal Revenue Code (IRC), unless authorized by statute, IRS, or IRS regulations.

1. To third party contacts (e.g., employers and private pension plans) in situations where the party to be contacted has, or is expected to have, information relating to the individual's capability to manage his or her benefits or payments, or his or her eligibility for or entitlement to benefits or eligibility for payments, under the Social Security program when:

(a) The individual is unable to provide information being sought. An individual is considered to be unable to provide certain types of information when:

i. He or she is incapable or is of questionable mental capability;

ii. He or she cannot read or write;

iii. He or she cannot afford the cost of obtaining the information;

iv. He or she has a hearing impairment and contacts us via telephone through a telecommunications relay system operator;

v. A language barrier exists; or

vi. The custodian of the information will not, as a matter of policy, provide it to the individual; OR

(b) the data is necessary to establish the validity of evidence or to verify the accuracy of information presented by the individual, and it concerns one or more of the following:

i. His or her entitlement to or eligibility for benefits under the Social Security program;

ii. The amount of his or her benefit or payment; or

iii. Any case in which the evidence is being reviewed, as a result of suspected abuse or fraud or concern for program integrity, quality appraisal or evaluation and measurement activities.

2. To third party contacts, where necessary, to establish or verify information provided by representative payees or representative payee applicants.

3. To a Social Security beneficiary or claimant, when a claim is filed by an individual on the same record adverse to the beneficiary, only information concerning the facts relevant to the interests of each party in a claim, i.e.,

(a) an award of benefits to a new claimant precludes an award to a prior claimant; or

(b) an award of benefits to a new claimant will reduce benefit payments to the individual(s) on the rolls, but only for information concerning the facts relevant to the interests of each party in a claim.

4. To employers, current or former, for correcting or reconstructing earnings records and for Social Security tax purposes.

5. To the Department of Treasury, for:

(a) Collecting Social Security taxes, or as otherwise pertinent to tax and benefit payment provisions of the Social Security Act, including SSN verification services; and

(b) investigating the alleged theft, forgery, or unlawful negotiation of Social Security checks.

6. To the United States Postal Service, for investigating the alleged theft or forgery of Social Security checks.

7. To Department of Justice (DOJ), for the purposes of:

(a) Investigating and prosecuting violations of the Social Security Act to which criminal penalties attach,

(b) representing the Commissioner of Social Security, and,

(c) investigating issues of fraud or violations of civil rights by officers or SSA employees.

8. To the Department of State, for administration of the Social Security Act in foreign countries through services and facilities of that agency.

9. To the American Institute, a private corporation under contract to the Department of State, for administering the Social Security Act in Taiwan through facilities and services of that agency.

10. To the Department of Veterans Affairs (VA), Regional Office, Manila, Philippines, for the administration of the Social Security Act in the Philippines and other parts of the Asia-Pacific region through services and facilities of that agency.

11. To the Department of Interior and its agents, for the purpose of administering the Social Security Act in the Northern Mariana Islands through facilities and services of that agency.

12. To the Railroad Retirement Board (RRB), for the purpose of administering provisions of the Social Security Act relating to railroad employment.

13. To State Social Security administrators, for administering agreements pursuant to section 218 of the Social Security Act.

14. To State audit agencies for the purpose of:

(a) Auditing State supplementation payments and Medicaid eligibility considerations; and

(b) expenditures of Federal funds by the State in support of the Disability Determination Services.

15. To private medical and vocational consultants, for use in preparing for, or evaluating the results of, consultative medical examinations or vocational assessments which they were engaged to perform by us or a State agency, in accordance with sections 221 or 1633 of the Social Security Act.

16. To specified business and other community members and Federal, State and local agencies for verification of eligibility for benefits under section 1631(e) of the Social Security Act.

17. To claimants, prospective claimants (other than the data subject), and their authorized representatives or representative payees, to the extent necessary to pursue Social Security claims; to representative payees, when the information pertains to individuals for whom they serve as representative payees, for the purpose of assisting us in administering representative payment responsibilities under the Social Security Act; and to representative payees, for the purpose of assisting them in performing their duties as payees, including receiving and accounting for benefits for individuals for whom they serve as payees.

18. To a congressional office in response to an inquiry from that office made on behalf of, and at the request of, the subject of the record or third party acting on the subject's behalf.

19. In response to legal process or interrogatories relating to the enforcement of an individual's child support or alimony obligations, as required by section 459 of the Social Security Act.

20. To Federal, State, or local agencies (or agents on their behalf), for administering income or health maintenance programs including programs under the Social Security Act. Such disclosures include the release of information to the following agencies, but are not limited to:

(a) RRB, for administering provisions of the Railroad Retirement Act and Social Security Act, relating to railroad employment, and for administering provisions of the Railroad Unemployment Insurance Act;

(b) VA, for administering 38 U.S.C. 1312, and upon request, for determining eligibility for, or amount of, veterans' benefits or for verifying other information with respect thereto pursuant to 38 U.S.C. 5106;

(c) Department of Labor for administering provisions of Title IV of the Federal Coal Mine Health and Safety Act, as amended by the Black Lung Benefits Act;

(d) State welfare departments, for administering sections 205(c)(2)(B)(i)(II) and 402 of the Social Security Act, which require information about assigned SSNs for Temporary Assistance for Needy Families (TANF) program purposes, and for determining a beneficiary's eligibility under the TANF program;

(e) State agencies for administering the Medicaid program; and

(f) State agencies for making determinations of food stamp eligibility under the food stamp program.

21. To State welfare departments:

(a) Pursuant to agreements with us, for the administration of State supplementation payments;

(b) for enrollment of welfare beneficiaries for medical insurance under section 1843 of the Social Security Act; and

(c) for conducting independent quality assurance reviews of SSI beneficiary records, provided that the agreement for Federal administration of the supplementation provides for such an independent review.

22. To State vocational rehabilitation agencies, State health departments, or other agencies providing services to disabled children, for consideration of rehabilitation services, per sections 222 and 1615 of the Social Security Act.

23. To the Social Security agency of a foreign country, to carry out the purpose of an international Social Security agreement entered between the United States and the other country, pursuant to section 233 of the Social Security Act.

24. To IRS, Department of the Treasury, for the purpose of auditing SSA's compliance with the safeguard provisions of the IRC of 1986, as amended.

25. To the Office of the President in response to an inquiry from that office made on behalf of, and at the request of, the subject of the record or a third party acting on the subject's behalf.

26. To third party contacts (including private collection under contract with us), for the purpose of their assisting us in recovering overpayments.

27. To Department of Homeland Security, upon request, to identify and locate aliens in the United States pursuant to section 290(b) of the Immigration and Nationality Act (8 U.S.C. 1360(b)).

28. To contractors and other Federal Agencies, as necessary, for the purpose of assisting us in the efficient administration of our programs. We will disclose information under this routine use only in situations in which we may enter into a contractual or similar agreement to obtain assistance in accomplishing an SSA function relating to this system of records.

29. To the National Archives and Records Administration (NARA) under 44 U.S.C. 2904 and 2906.

30. To DOJ, a court or other tribunal, or another party before such tribunal, when:

(a) SSA, or any component thereof; or

(b) Any SSA employee in his or her official capacity; or

(c) Any SSA employee in his or her individual capacity where DOJ (or SSA, where it is authorized to do so) has agreed to represent the employee; or

(d) The United States or any agency thereof where we determine that the litigation is likely to affect us or any of our components, is a party to litigation or has an interest in such litigation, and we determine that the use of such records by DOJ, a court or other tribunal, or another party before the tribunal, is relevant and necessary to the litigation, provided, however, that in each case, we determine that such disclosure is compatible with the purpose for which the records were collected.

31. To the Department of Education, addresses of beneficiaries who are obligated on loans held by the Secretary of Education or a loan made in accordance with 20 U.S.C. 1071, et seq. (the Robert T. Stafford Federal Student Loan Program), as authorized by section 489A of the Higher Education Act of 1965.

32. To student volunteers, individuals working under a personal services contract, and other workers who technically do not have the status of Federal employees, when they are performing work for us, as authorized by law, and they need access to personally identifiable information (PII) in our records in order to perform their assigned agency functions.

33. To Federal, State, and local law enforcement agencies and private security contractors as appropriate, if necessary:

(a) To enable them to protect the safety of SSA employees and customers, the security of the SSA workplace and the operation of our facilities, or

(b) to assist investigations or prosecutions with respect to activities that affect such safety and security, or activities that disrupt the operation of our facilities.

34. To appropriate agencies, entities, and persons when:

(a) SSA suspects or has confirmed that there has been a breach of the system of records;

(b) SSA has determined that as a result of the suspected or confirmed breach there is a risk of harm to individuals, SSA (including its information systems, programs, and operations), the Federal Government, or national security; and

(c) the disclosure made to such agencies, entities, and persons is reasonably necessary to assist in connection with SSA's efforts to respond to the suspected or confirmed breach or to prevent, minimize, or remedy such harm.

35. To agencies or entities who have a written agreement with us, to perform representative payee reviews for SSA and to provide training, administrative oversight, technical assistance, and other support for those reviews.

36. To state protection and advocacy (P&A) systems, that have a written agreement with us to conduct reviews of representative payees, for the purpose of conducting additional reviews that the P&A systems have reason to believe are warranted.

37. To another Federal agency or Federal entity, when we determine that information from this system of records is reasonably necessary to assist the recipient agency or entity in:

(a) Responding to a suspected or confirmed breach; or

(b) preventing, minimizing, or remedying the risk of harm to individuals, the recipient agency or entity (including its information systems, programs, and operations), the Federal Government, or national security, resulting from a suspected or confirmed breach.

38. To contractors, cooperative agreement awardees, State agencies, Federal agencies, and Federal congressional support agencies for research and statistical activities that are designed to increase knowledge about present or alternative Social Security programs; are of importance to the Social Security program or the Social Security beneficiaries; or are for an epidemiological project that relates to the Social Security program or beneficiaries. We will disclose information under this routine use pursuant only to a written agreement with us.

POLICIES AND PRACTICES FOR STORAGE OF RECORDS:

We maintain records in this system in paper and electronic form.

POLICIES AND PRACTICES FOR RETRIEVAL OF RECORDS:

We will retrieve records by SSN, name, or BNC.

POLICIES AND PRACTICES FOR RETENTION AND DISPOSAL OF RECORDS:

In accordance with NARA rules codified at 36 CFR 1225.16, we maintain records in accordance with the approved NARA Agency-Specific Records Schedule N1-47-05-1.

ADMINISTRATIVE, TECHNICAL, AND PHYSICAL SAFEGUARDS:

We retain electronic and paper files containing personal identifiers in secure storage areas accessible only by our authorized employees who have a need for the information when performing their official duties. Security measures include, but are not limited to, the use of codes and profiles, personal identification number and password, and personal identification verification cards. We restrict access to specific correspondence within the system based on assigned roles and authorized users. We maintain electronic files with personal identifiers in secure storage areas. We will use audit mechanisms to record sensitive transactions as an additional measure to protect information from unauthorized disclosure or modification. We keep paper records in cabinets within secure areas, with access limited to only those employees who have an official need for access in order to perform their duties.

We annually provide our employees and contractors with appropriate security awareness training that includes reminders about the need to protect PII and the criminal penalties that apply to unauthorized access to, or disclosure of PII. See 5 U.S.C. 552a(i)(1). Furthermore, employees and contractors with access to databases maintaining PII must annually sign a sanction document that acknowledges their accountability for inappropriately accessing or disclosing such information.

RECORD ACCESS PROCEDURES:

Individuals may submit requests for information about whether this system contains a record about them by submitting a written request to the system manager at the above address, which includes their name, SSN, or other information that may be in this system of records that will identify them. Individuals requesting notification of, or access to, a record by mail must include: (1) A notarized statement to us to verify their identity; or (2) must certify in the request that they are the individual they claim to be and that they understand that the knowing and willful request for, or acquisition of, a record pertaining to another individual under false pretenses is a criminal offense.

Individuals requesting notification of, or access to, records in person must provide their name, SSN, or other information that may be in this system of records that will identify them, as well as provide an identity document, preferably with a photograph, such as a driver's license. Individuals lacking identification documents sufficient to establish their identity must certify in writing that they are the individual they claim to be and that they understand that the knowing and willful request for, or acquisition of, a record pertaining to another individual under false pretenses is a criminal offense.

These procedures are in accordance with our regulations at 20 CFR 401.40 and 401.45.

CONTESTING RECORD PROCEDURES:

Same as record access procedures. Individuals should also reasonably identify the record, specify the information they are contesting, and state the corrective action sought and the reasons for the correction with supporting justification showing how the record is incomplete, untimely, inaccurate, or irrelevant. These procedures are in accordance with our regulations at 20 CFR 401.65(a).

NOTIFICATION PROCEDURES:

Same as record access procedures. These procedures are in accordance with our regulations at 20 CFR 401.40 and 401.45.

EXEMPTIONS PROMULGATED FOR THE SYSTEM:

None.

HISTORY:

68 FR 15784, Claims Folders System.

72 FR 69723, Claims Folders System.

83 FR 31250, Claims Folders System.

83 FR 54969, Claims Folders System.

[FR Doc. 2019-23750 Filed 10-30-19; 8:45 am]

BILLING CODE 4191-02-P